DEPARTMENT OF COMMERCE

National Oceanic and Atmospheric Administration

[I.D. 100704B]

New England Fishery Management Council; Public Meetings

AGENCY: National Marine Fisheries Service (NMFS), National Oceanic and Atmospheric Administration (NOAA), Commerce.

ACTION: Notice of a public meeting.

SUMMARY: The New England Fishery Management Council (Council) is scheduling a 2-day public meeting of its Joint Scallop Plan Development Team (PDT) and Advisory Panel in October, 2004. Recommendations from the panels will be brought to the full Council for formal consideration and action, if appropriate.

DATES: The meeting will held on Thursday, October 28, 2004 at 9 a.m. and Friday, October 29, 2004 at 9 a.m.

ADDRESSES: The meeting will be held at the Holiday Inn Express, 110 Middle Street, Fairhaven, MA 02719; telephone: (508) 997-1281.

Council address: New England Fishery Management Council, 50 Water Street, Newburyport, MA 01950.

FOR FURTHER INFORMATION CONTACT: Paul J. Howard, Executive Director, New England Fishery Management Council (978) 465-0492.

SUPPLEMENTARY INFORMATION: In preparation for the development of a Stock Assessment and Fishery Evaluation (SAFE) Report for 2005, a Joint PDT and Advisory Panel meeting will conduct initial discussions to focus on identification of: problems and issues that the SAFE Report should analyze; SAFE Report document structure and organization; data and analytic requirements; timing when data become available for analysis and how various analyses interrelate; delegation and responsibility for conducting analyses and preparing written reports; other issues related to the 2005 SAFE Report, as needed.

The SAFE Report will be used as a baseline in Framework Adjustment 18 for measures to be implemented in the 2006 fishing year.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: October 8, 2004.
Alan D. Risenhoover,
Acting Director, Office of Sustainable Fisheries, National Marine Fisheries Service.

[FR Doc. E4-2602 Filed 10-13-04; 8:45 am]

BILLING CODE 3510-22-S